DEPARTMENT OF TRANSPORTATION

Federal Aviation Administration

14 CFR Part 71

[Docket No. FAA-2020-0274; Airspace Docket No. 20-ASO-8]

RIN 2120-AA66

Amendment of Area Navigation (RNAV) Route Q-56 in the Vicinity of Atlanta, GA

AGENCY: Federal Aviation Administration (FAA), DOT.

ACTION: Final rule.

SUMMARY: This action amends area navigation (RNAV) route Q-56 in the vicinity of Atlanta, GA, by re-establishing the route over the KBLER, GA, waypoint, which was recently removed from the route. Subsequent to the recent publication of the rule that removed the KBLER waypoint from Q-56, the FAA has identified safety related issues resulting from the removal of the waypoint and the resultant relocation of the affected route segment. This action amends Q-56 to reflect the route as it was charted prior to the KBLER waypoint being removed, addresses the safety issues created by the removal of the waypoint from the route, and restores the safety and efficiency of the high altitude enroute structure supporting the flow of air traffic in the vicinity of the Atlanta, GA, and Charlotte, NC, Metroplex areas.

DATES: Effective date 0901 UTC, May 21, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure in the National Airspace System as necessary to preserve the safe and efficient flow of air traffic.

History

In 2014, the FAA established 14 RNAV Q-routes and modified 4 Q-routes to enhance the efficiency of the National Airspace System (NAS) by improving the flow of air traffic in the vicinity of the Atlanta, GA, and Charlotte, NC, Metroplex areas. One of the Q-routes established at that time was Q-56, which was designed with the KBLER, GA, waypoint included in the route between the CATLN, AL, fix and the KELLN, SC, waypoint.

The FAA recently published a rule in the Federal Register for Docket No. FAA-2018-0817 (85 FR 3814; January 23, 2020) to amend and establish multiple Air Traffic Service (ATS) routes due to the planned decommissioning of the Hobby, TX, VHF Omnidirectional Range/Distance Measuring Equipment (VOR/DME) navigation aid. One of the routes amended in that action was Q-56, which included an amendment removing the KBLER, GA, waypoint.

The removal of the KBLER, GA, waypoint from Q-56 has inadvertently created safety issues within the Atlanta Air Route Traffic Control Center (ARTCC) airspace by effectively moving the affected route segment 3 miles to the south at a heavily used choke point east of the Hartsfield-Jackson Atlanta International Airport. By moving the affected route segment south in that area, controllers are now required to ensure that point-out coordination of aircraft on Q-56 is accomplished because the route in that area is less than 2.5 miles from the adjacent ATC sector boundaries. If air traffic control misses this additional point-out coordination, the result will be an airspace violation and possible loss of aircraft separation.

The unintended airway change also effects how aircraft inbound to Charlotte/Douglas International Airport are handled via the JONZE standard terminal arrival route (STAR). The original Q-56 route design, with the KBLER waypoint included, ensured that Charlotte/Douglas International Airport arrival aircraft flying the JONZE STAR would diverge from Q-56 at a point where Atlanta ARTCC controllers were able to transition the arrival aircraft through overflight traffic in the area in a manner that would meet descent restrictions established by the Charlotte Terminal Radar Approach Control (TRACON) controllers based on current traffic flows. With the affected Q-56 route segment being relocated closer to the adjacent ATC sector boundaries, it has created additional safety concerns associated with ATC being able to descend Charlotte/Douglas International Airport arrival aircraft in a timely manner to meet descent restrictions and impacting the efficiencies realized by the Charlotte/Douglas International Airport Optimized Profile Descent (OPD) procedures. Further, the possibility that ATC may be unable to meet descent restrictions for Charlotte/Douglas International Airport arrival aircraft could also result in the Charlotte TRACON being unable to accept the arrival aircraft into their airspace; thus creating airspace congestion and safety issues for ATC to resolve.

Lastly, the RNAV Q-routes that were established in 2014 within Atlanta ARTCC's airspace, which included Q-56, were designed to ensure the required separation between the routes to integrate the departure flows from two of the top 10 busiest airports, Hartsfield-Jackson Atlanta International Airport and Charlotte/Douglas International Airport. To support the integration of departure flows, procedural separation was leveraged for as long as possible in order to establish air traffic flow efficiencies supporting both airports. With the affected Q-56 route segment now relocated 3 miles south of its original position, another unintended safety issue has been created by changing the point where conflictions between Q-56 and Q-64 occur. Absent the procedural separation benefits associated with Q-56 being charted over the KBLER waypoint, the complexity of separating aircraft operating on Q-56 and Q-64 is increased significantly; requiring additional controllers to overcome potential loss of separation safety issues.

RNAV Q-routes are published in paragraph 2006 of FAA Order 7400.11D, dated August 8, 2019, and effective September 15, 2019, which is incorporated by reference in 14 CFR 71.1. The RNAV Q-route listed in this rule will be subsequently published in the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 by modifying RNAV route Q-56. Specifically, this action re-establishes Q-56 over the KBLER, GA, waypoint to resolve safety issues resulting from the waypoint having been removed from the route recently. Unanticipated safety issues identified subsequent to the publication of the rule that removed the KBLER waypoint from Q-56 have made this action necessary. The revised Q-56 RNAV route, overlying the KBLER waypoint, will reduce the unintended safety related issues of increased ATC sectors workload and complexity, reduce the increased ATC coordination and pilot-to-controller communications requirements, and safely restore the high altitude enroute structure supporting previous air traffic flows and capacity efficiencies in the Atlanta, GA, and Charlotte, NC, Metroplex areas. Because the issues described above require prompt resolution, notice and public procedures under 5 U.S.C. 553(b) are unnecessary.

The RNAV route modification accomplished by this action is outlined below.

Q-56: Q-56 extends between the San Antonio, TX, VHF Omnidirectional Range/Tactical Air Navigation (VORTAC) navigation aid and the KIWII, VA, waypoint (WP). The KBLER, GA, WP is added between the CATLN, AL, fix and the KELLN, SC, WP. The unaffected portions of the existing route remain as charted.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying RNAV route Q-56 near Atlanta, GA, qualifies for categorical exclusion under the National Environmental Policy Act and its implementing regulations at 40 CFR part 1500, and in accordance with FAA Order 1050.1F, Environmental Impacts: Policies and Procedures, Paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 2006 United States Area Navigation Routes.

* * * * *

Q-56 San Antonio, TX (SAT) to KIWII, VA [Amended]
San Antonio, TX (SAT) | VORTAC | (Lat. 29°38′38.51″ N, long. 098°27′40.73″ W)
MOLLR, TX | WP | (Lat. 29°39′20.23″ N, long. 095°16′35.83″ W)
PEKON, LA | FIX | (Lat. 29°37′22.88″ N, long. 092°55′26.37″ W)
Harvey, LA (HRV) | VORTAC | (Lat. 29°51′00.70″ N, long. 090°00′10.74″ W)
Semmes, AL (SJI) | VORTAC | (Lat. 30°43′33.53″ N, long. 088°21′33.46″ W)
CATLN, AL | FIX | (Lat. 31°18′26.03″ N, long. 087°34′47.75″ W)
KBLER, AL | WP | (Lat. 33°43′20.65″ N, long. 083°43′13.71″ W)
KELLN, SC | WP | (Lat. 34°31′33.22″ N, long. 082°10′16.92″ W)
KTOWN, NC | WP | (Lat. 35°11′49.14″ N, long. 081°03′18.27″ W)
BYSCO, NC | WP | (Lat. 35°46′09.25″ N, long. 080°04′33.85″ W)
JOOLI, NC | WP | (Lat. 35°54′55.21″ N, long. 079°49′16.24″ W)
NUUMN, NC | WP | (Lat. 36°09′53.78″ N, long. 079°23′38.70″ W)
ORACL, NC | WP | (Lat. 36°28′01.58″ N, long. 078°52′14.80″ W)
KIWII, VA | WP | (Lat. 36°34′56.91″ N, long. 078°40′03.92″ W)

* * * * *

Issued in Washington, DC, on March 18, 2020.
Scott M. Rosenbloom,
Acting Manager, Rules and Regulations Group.

[FR Doc. 2020-06052 Filed 3-23-20; 8:45 am]

BILLING CODE 4910-13-P